DEPARTMENT OF THE TREASURY

Submission for OMB Review; Comment Request

December 15, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 5, 2001 to be assured of consideration.

Financial Management Service (FMS)

OMB Number: 1510-0007.

Form Number: Standard Form 1199A.

Type of Review: Reinstatement.

Title: Direct Deposit Sign-Up Form.

Description: The Direct Deposit Sign-Up Form is used by recipients to authorize the deposit of Federal payments into their accounts at a financial institution. This information is used to route the Direct Deposit payment to the correct account at the correct financial institution. It identifies persons who have executed the form.

Respondents: Individuals or households, Business or other for-profit, Federal Government.

Estimated Number of Respondents/Recordkeepers: 604,000.

Estimated Burden Hours Per Respondent/Recordkeeper: 10 minutes.

Frequency of Response: Other (one-time).

Estimated Total Reporting/Recordkeeping Burden: 102,680 hours.

Clearance Officer: Juanita Holder, Financial Management Service, 3700 East West Highway, Room 144, PGP II, Hyattsville, MD 20782.

OMB Reviewer: Alexander T. Hunt, (202) 395-7860, Office of Management and Budget, Room 10202, New Executive Office Building, Washington, DC 20503.

Lois K. Holland,
Departmental Reports, Management Officer.

[FR Doc. 01-146 Filed 1-3-01; 8:45 am]

BILLING CODE 4810-35-P